DEPARTMENT OF HEALTH AND HUMAN SERVICES

Administration for Children and Families

Proposed Information Collection Activity; Comment Request

Proposed Projects: National Human Trafficking Training and Technical Assistance Center.

Title: National Human Trafficking Training and Technical Assistance Center (NHTTAC) Consultant and Evaluation Package.

OMB No.: New.

Description: The Trafficking Victims Protection Act of 2000 (PL 106-386), Section 106(b), as amended at 22 U.S. Code § 7104 and 22 U.S. Code § 7105(c)(4) authorizes The Office on Trafficking in Persons (OTIP), an office of The Administration for Children and Families (ACF), U.S. Department of Health and Human Services (HHS) to establish and carry out human trafficking public awareness programs and training for government personnel. Under this authority, OTIP is proposing a data collection through the National Human Trafficking Training and Technical Assistance Center (NHTTAC).

NHTTAC hosts a variety of services, programs, and facilitated sessions to improve service provision to individuals who have been trafficked or who are at risk of trafficking, including The Human Trafficking Leadership Academy (HTLA); the Survivor Fellowship Program; the NHTTAC Customer Support Center; short-term and specialized T/TA requests (requests that take less than 3 hours or 3 or more hours to fulfill, respectively); OTIP-funded grantees; and information through NHTTAC's website, resources, and materials about trafficking.

Assessment, evaluation, and quality improvement are essential components of NHTTAC T/TA delivery and requires data collection from NHTTAC T/TA participants, consultants, and other stakeholders that are involved in NHTTAC activities. Data will be collected after each T/TA event to provide a feedback mechanism to improve the availability and delivery of coordinated and trauma-informed services before, during, and after an individual's trafficking exploitation. Whenever possible, data will be collected from participants and consultants electronically via a survey tailored to the specific T/TA event to maximize convenience and minimize the burden for participants. When appropriate, focus groups and interviews will also be leveraged to obtain contextual information about NHTTAC activities. The types of information collected tie directly to the outputs, short-term, and long-term objectives of NHTTAC.

Respondents: NHTTAC consultants and T/TA participants are from a diverse background with a wide range of experiences within the trafficking and public health fields, including health and human service providers.

Human Trafficking Leadership Academy (HTLA): Participants in the HTLA comprise survivors of trafficking and anti-trafficking service providers.

Survivor Fellowship Program: Participants are representatives from health and human service organizations and survivors of trafficking.

Customer Support Center: Respondents are primarily health and human service providers requesting materials or T/TA on trafficking service provision.

Short-Term and Specialized T/TA: NHTTAC follows up with participants 3 to 6 months after specialized T/TA activities to measure the outcomes of the T/TA.

OTIP Grantees: NHTTAC supports OTIP grantees by providing information, facilitating information sharing, and hosting meetings and webinars.

NHTTAC Website: NHTTAC hosts a website of information and resources; people who visit the website are asked for their feedback on how the website can be improved.

Conference and Meeting Support: NHTTAC supports conferences to share information, promising practices, and evidence-based research on trafficking within the field. NHTTAC also supports the delivery of cluster meetings on behalf of OTIP.

National Advisory Council: NHTTAC supports the National Advisory Council on the Sex Trafficking of Children and Youth in the United States (NAC) by facilitating and coordinating meetings. NAC members are asked for their feedback following meetings regarding how well the group is working together and what could be improved in the future.

Organizational Scholarships: An organizational survivor scholarship may be awarded to organizations for conferences that support OTIP's stated goals and work with individuals who have been trafficked and/or at risk of trafficking.

Professional Development Scholarships: Eligible individuals include child welfare experts, public health professionals, medical service providers, behavioral health professionals, advocates, service providers, and individuals who have been trafficked. Federal, tribal, state, and local agencies and multidisciplinary teams are also eligible.

SOAR to Health and Wellness (SOAR): Tier I trainings of SOAR engage respondents through a variety of modalities: (1) SOAR Online is available to the public and comprises multiple modules. (2) SOAR trainings at select national and regional conferences or similar meetings. (3) SOAR resources will help inform practitioners and professionals who work in the public health field. (4) SOAR training for U.S. Department of Health and Human Services (HHS) personnel is similar to SOAR Online but tailored to HHS staff. (5) Emerging issues webinars are available to the public but targeted to public health professionals, including health and human service providers.

Tier II of SOAR targets respondents through a blended online training to individuals who plan to incorporate the content into their organization's policies and best practices. Organizations can also add the SOAR Online training to their learning management systems.

Tier III of SOAR engages respondents through intensive, in-person T/TA via SOAR for Communities. The goal is to provide strategic planning and goal setting in communities looking to improve their response to trafficking.

NHTTAC Consultants: T/TA expert consultants are subject matter experts with at least 7 years of relevant professional experience. Survivor impact consultants are individuals who have experienced human trafficking. Each category has distinct qualifications and eligibility requirements that are fielded through an online application process.

Annual Burden Estimates
Instrument | Number of respondents | Number of responses per respondent | Average burden hours per response | Total burden hours
Survivor Fellowship Organization Feedback Form | 10 | 1 | .250 | 2.50
Survivor Fellowship Fellow Feedback Form | 10 | 1 | .250 | 2.50
Website Feedback Form | 300 | 1 | .083 | 24.90
Consultant Feedback Form | 50 | 1 | .083 | 4.15
Coordination Feedback Form | 100 | 1 | .050 | 5.00
Focus Group Demographic Survey | 25 | 1 | .033 | .825
Focus Group Guide | 25 | 1 | .750 | 18.75
Follow-up Feedback Form | 300 | 1 | .133 | 39.90
General Training Feedback Form | 150 | 1 | .133 | 19.95
Interview Guide | 25 | 1 | .750 | 18.75
Pilot Feedback Form | 25 | 1 | .150 | 3.75
Requester Feedback Form | 75 | 1 | .117 | 8.78
Resource Tool Feedback Form | 500 | 1 | .033 | 16.50
SOAR Blended Learning Participant Feedback Form | 30 | 1 | .150 | 4.50
SOAR Conference Feedback Form | 500 | 1 | .200 | 100.00
SOAR Online Participant Feedback Form | 1500 | 1 | .100 | 150.00
SOAR Organizational Feedback Form | 20 | 1 | .133 | 2.66
SOAR Specialized T/TA Feedback Form | 200 | 1 | .150 | 30.00
Webinar Participant Feedback Form | 1000 | 1 | .067 | 67.00
Survivor Impact Consultant Application | 20 | 1 | .283 | 5.66
Expert T/TA Consultant Application | 20 | 1 | .267 | 5.34
Organizational Scholarship Application | 10 | 1 | .317 | 3.17
Professional Development Survivor Scholarship Application | 30 | 1 | .333 | 9.99
Total Annual Burden | 5,908 |  |  | 689.15

Estimated Total Annual Burden Hours: 689 Hours.

In compliance with the requirements of the Paperwork Reduction Act of 1995 (Pub. L. 104-13, 44 U.S.C. Chap 35), the Administration for Children and Families is soliciting public comment on the specific aspects of the information collection described above. Copies of the proposed collection of information can be obtained and comments may be forwarded by writing to the Administration for Children and Families, Office of Planning, Research and Evaluation, 330 C Street SW, Washington, DC 20201. Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer.

[FR Doc. 2018-07843 Filed 4-13-18; 8:45 am]

BILLING CODE 4184-47-P